Title 3—

The President

Order of December 10, 2001

Designation Under Executive Order 12958

Pursuant to the provisions of section 1.4 of Executive Order 12958 of April 17, 1995, entitled “Classified National Security Information,” I hereby designate the Secretary of Health and Human Services to classify information originally as “Secret.”

Any delegation of this authority shall be in accordance with section 1.4(c) of Executive Order 12958.

This order shall be published in the Federal Register.

B

THE WHITE HOUSE,

December 10, 2001.

[FR Doc. 01-30886

Filed 12-11-01; 11:31 am]

Billing code 3195-01-P